DEPARTMENT OF DEFENSE

Department of the Army, Corps of Engineers

Notice of Intent To Prepare a Draft Environmental Impact Statement/ Environmental Impact Report (DEIS/DEIR) for a Proposed Marine Terminal Development at Pier S and Back Channel Navigational Safety Improvements in the Port of Long Beach, Los Angeles County, CA

AGENCY: Army Corps of Engineers, DOD.

ACTION: Notice of intent (NOI).

SUMMARY: The Port of Long Beach (Port) is proposing to develop the Pier S Marine Terminal and Back Channel Navigational Safety Improvements Project (Proposed Action). The development of Pier S and Back Channel improvements would result in an approximately 160-acre marine container terminal, and would include the following elements: property acquisition; dredging, wharf construction, other waterside improvements, and container cranes; container yard and associated structures; terminal buildings and other structures; truck gates, associated structures, and roadwork; intermodal rail yard, structures, and dual rail lead; and utility and oil facility relocation.

The primary Federal concern is the dredging and discharging of materials within waters of the U.S. and potential impacts on the human environment. Under Section 404 of the Clean Water Act, the Corps is authorized to approve discharges of dredged or fill material into waters of the U.S. Under Section 10 of the Rivers and Harbors Act, the Corps may authorize activities that could affect navigable waters. Pursuant to Section 102(2)(c) of the National Environmental Policy Act of 1969 (NEPA) as implemented by the Council on Environmental Quality (CEQ), 40 CFR 1500-1508, the Corps is preparing an Environmental Impact Statement (EIS) to evaluate the potential effects of the Proposed Action on the environment. The Corps may ultimately make a determination to permit or deny the Proposed Action, or permit or deny alternatives to the Proposed Action.

Pursuant to the California Environmental Quality Act (CEQA), the Port will serve as Lead Agency for the preparation of an Environmental Impact Report (EIR) for its consideration of development approvals within its jurisdiction. The Corps and the Port have agreed to jointly prepare a DEIS/DEIR in order to optimize efficiency and avoid duplication. The DEIS/DEIR is intended to be sufficient in scope to address federal, state, and local requirements and environmental issues concerning the proposed activities and permit approvals.

FOR FURTHER INFORMATION CONTACT: Questions about the proposed action and Draft EIS/EIR can be answered by Dr. Aaron O. Allen, Chief, North Coast Section, at (805) 585-2148. Comments regarding the scope of the DEIS/DEIR shall be addressed to: U.S. Army Corps of Engineers, Los Angeles District, Ventura Field Office, ATTN: File Number 2006-02062-AOA, 2151 Alessandro Drive, Suite 110, Ventura, California 93001. Alternatively, comments can be e-mailed to aaron.o.allen@usace.army.mil. Comments shall also be sent to Matthew Arms, Port of Long Beach, P.O. Box 570, Long Beach, CA 90801-0570.

SUPPLEMENTARY INFORMATION: 1. Project Site and Background Information. The 160-acre Pier S site is located in the Port of Long Beach, Terminal Island Harbor District. The site is bounded on the north by Cerritos Channel and the Pier A Marine Terminal; on the east by the Back Channel, Southern California Edison (SCE) property, and the Long Beach Generation Plant; on the south by Ocean Boulevard and Pier T; and on the west by SR 47 and the Vopak Terminal Long Beach and City of Long Beach property. The Back Channel is located east of the Pier S site and is bounded on the north by the Inner Harbor Turning Basin and Pier A Terminal; on the east by Pier D; on the south by Middle Harbor; and on the west by Pier T. Currently, approximately 60 acres of the total 160-acre terminal is paved with asphaltic concrete, and no marine terminal operations occur at Pier S.

In July 2000, a safety issue was raised concerning the ability to move a ship safely in the Cerritos Channel while other ships were berthed at both Pier S and Pier A, across the channel. To address the above issue, an Addendum to the Final EIR for the Pier S Marine Terminal was completed. The Addendum analyzed the proposed project modifications that would reduce impacts to navigational safety by widening the channel by 108 feet, bringing the total channel width to 808 feet. Accordingly, this DEIS/DEIR will consider the environmental impacts of the proposed marine terminal and Back Channel navigational safety improvements.

2. Proposed Action. The proposed project would construct a 160-acre marine terminal on Pier S. Dredge and fill activities would involve dike realignment, berth deepening, and wharf construction. Construction of the wharf would include excavation of the existing shoreline to straighten the shoreline and widen the Cerritos Channel between the Pier A and future Pier S pierhead lines to accommodate the passage of modern container vessels through the channel. Widening of the Cerritos Channel would create approximately 10 acres of new water surface area. Wharf excavation would include removing approximately 1,500,000 cubic yards of material and reconstructing the shoreline with imported quarry run and armor rock. In addition to wharf excavation, approximately 600,000 cubic yards of material that may or may not be suitable for unconfined aquatic disposal would be dredged from the Cerritos Channel for ship berthing. Dredging of the Back Channel would be conducted to extend the navigable width of the channel to approximately 315 feet at the full dredge depth. Approximately 250,000 cubic yards of material below MLLW (including materials that are either suitable or unsuitable for open ocean disposal) would be dredged from designated side walls of the Back Channel and Inner Harbor Turning Basin at the intersection of the Back and Cerritos channels to facilitate the navigation of ships expected to serve the Inner Harbor terminals. The minimum and maximum dredge depths in the Cerritos Channel, Back Channel, and Inner Harbor Turning Basin would be -52 feet MLLW and -54 feet MLLW, respectively. The maximum dredge depth of -54 feet MLLW includes a 2-foot allowance over the target depth of -52 ft MLLW. The terminal would include buildings, facilities, and other structures needed to support container terminal operations and administration. The terminal would include an intermodal rail yard facility consisting of eight tracks.

3. Issues. There are several potential environmental issues that will be addressed in the DEIS/DEIR. Additional issues may be identified during the scoping process. Issues initially identified as potentially significant include:

1. Air pollutant emissions from construction and operation.

2. Potential impacts on marine biological resources, including endangered species.

3. Geological issues including dredging and stabilization of fill areas.

4. Marine water circulation and water and sediment quality.

5. Potential impacts on public health and safety.

6. Noise during construction and operation.

7. Impacts to public facilities and utilities.

8. Traffic, including navigation issues, and transportation related impacts.

9. Environmental justice.

10. Cumulative impacts.

11. Growth-inducing impacts.

4. Alternatives. Alternatives initially being considered for the proposed project development include the following:

(1) Marine Container Terminal with Rail Access and Back Channel Improvements (Preferred Alternative);

(2) Marine Container Terminal with Rail Access and Reduced Wharf and Back Channel Improvements;

(3) Multi-Use Storage Facility without Wharf and Back Channel Improvements (No Federal Action); and

(4) No Project/No Federal Action Alternative.

5. Scoping Process. The Corps and the Port will jointly conduct a scoping meeting for the proposed project. English and Spanish translation services will be provided at the meeting. The public scoping meeting will be held to receive public comment and assess public concerns regarding the appropriate scope of the DEIS/DEIR. Participation in the public meeting by federal, state, and local agencies and other interested organizations and persons is encouraged. The Corps will also be consulting with the U.S. Fish and Wildlife Service under the Endangered Species Act and Fish and Wildlife Coordination Act, and with the National Marine Fisheries Service under the Magnuson-Stevens Act. Additionally, the EIS/EIR will assess the consistency of the proposed Action with the Coastal Zone Management Act and potential water quality impacts pursuant to Section 401 of the Clean Water Act. The public scoping meeting for the Draft EIS/EIR will be held at the City Hall Council Chambers in Long Beach on February 22, 2007 at 6:30 p.m. Written comments will be received until March 14, 2007.

6. Availability of the DEIS/DEIR. The joint lead agencies expect the DEIS/DEIR to be published and circulated in July of 2007. A Public Hearing will be held during the public comment period for the DEIS/DEIR.

Dated: January 10, 2007.
David J. Castanon,
Chief, Regulatory Branch, Los Angeles District.

[FR Doc. E7-633 Filed 1-25-07; 8:45 am]

BILLING CODE 3710-KF-P